DEPARTMENT OF HEALTH AND HUMAN SERVICES

National Institutes of Health

National Institute of Mental Health Cancellation of Meeting

Notice is hereby given of the cancellation of the National Institute of Mental Health Special Emphasis Panel, July 20, 2011, 1:30 p.m. to July 20, 2011, 2:30 p.m., National Institutes of Health, Neuroscience Center, 6001 Executive Boulevard, Rockville, MD, 20852 which was published in the Federal Register on July 7, 2011, 76FR39884.

This meeting is being canceled due to the lone application being withdrawn.

Dated: July 12, 2011.
Jennifer S. Spaeth,
Director, Office of Federal Advisory Committee Policy.

[FR Doc. 2011-18059 Filed 7-18-11; 8:45 am]

BILLING CODE 4140-01-P